ENVIRONMENTAL PROTECTION AGENCY

[FRL-7799-6]

Availability of “Fiscal Year 2004 Wastewater Operator Training Program Security Funds''

AGENCY: Environmental Protection Agency.

ACTION: Notice of document availability.

SUMMARY: The Environmental Protection Agency (EPA) is announcing the availability of a guidance memorandum entitled “Fiscal Year 2004 Wastewater Operator Training Program Security Funds Allocation.” This memorandum provides national guidance for the allocation of funds used under the Clean Water Act (CWA). By providing additional funding to the CWA section 104(g) environmental training centers throughout the United States, the Program will provide on-site security assistance and classroom training security activities to operators at small community wastewater treatment facilities in order to help the facility to become more secure.

DATES: The grant information will be available August 9, 2004.

ADDRESSES: United States Environmental Protection Agency, EPA East, Office of Ground Water and Drinking Water, Municipal Assistance Branch, 1200 Pennsylvania Avenue, NW., (Mail Code 4601-M), Washington, DC 20460.

FOR FURTHER INFORMATION CONTACT: Curt Baranowski at (202) 564-0636, or e-mail: baranowski.curt@epa.gov.

SUPPLEMENTARY INFORMATION: The subject memorandum may be viewed and downloaded from EPA's Web site, http://www.epa.gov/OWM/mab/smcomm/104g/104secur.pdf under “Wastewater Security Grant Guidance.”

Dated: August 3, 2004.
Cynthia Dougherty,
Director, Office of Ground Water and Drinking Water.

[FR Doc. 04-18140 Filed 8-6-04; 8:45 am]

BILLING CODE 6560-50-U